DEPARTMENT OF DEFENSE

Defense Logistics Agency

[DOD-2006-OS-0184]

Office of the Secretary of Defense; Privacy Act of 1974; Systems of Records

AGENCY: Defense Logistics Agency, DoD.

ACTION: Notice to add a system of records.

SUMMARY: The Defense Logistics Agency proposes to add a system of records notice to its inventory of record systems subject to the Privacy Act of 1974 (5 U.S.C. 552a), as amended.

DATES: This action will be effective without further notice on September 25, 2006 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on August 14, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, FR 6427).

Dated: August 18, 2006.
C.R. Choate,
Alternate OSD Federal Register Liaison Officer, Department of Defense

S180.25

System name:

Public Affairs Subscription Mailing Lists.

System location:

Public Affairs Office, Headquarters, Defense Logistics Agency, ATTN: DP, 8725 John J. Kingman Road, Stop 2533, Fort Belvoir, VA 22060-6221, and the Public Affairs Offices at the Defense Logistics Agency (DLA) Field Activities. Official mailing addresses are published as an appendix to DLA's compilation of systems of records notices.

Categories of individuals covered by the system:

Individuals and organizations who have registered with DLA Public Affairs Offices to automatically receive magazines, newsletters, periodicals and other professional publications.

Categories of records in the system:

Records maintained include individual's name, home or business telephone number, e-mail and mailing addresses, customer number, and publication(s) of interest.

Authority for maintenance of the system:

5 U.S.C. 301, Departmental Regulations, and 10 U.S.C. 133, Under Secretary of Defense for Acquisition, Technology, and Logistics.

Purpose(s):

The system is used to produce subscription mailing lists for distribution of DLA publications, and to perform statistical analyses of reader interest and opinion.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of DLA's compilation of systems of records notices apply to this system.

Policies and practices for storing, retrieving, accessing, retaining, and disposing of records in the system:

Storage:

Records are maintained on both paper and electronic storage media.

Retrievability:

Records are retrieved by individual's name and address.

Safeguards:

Access is limited to those individuals who require the records for the performance of their official duties. Paper records are maintained in buildings with controlled or monitored access. During non-duty hours, records are secured in locked or guarded buildings, locked offices, or guarded cabinets. The electronic records systems employ user identification and password or smart card technology protocols.

Retention and disposal:

Records are destroyed when superseded or obsolete.

System manager(s) and address:

Director, Public Affairs Office, Headquarters, Defense Logistics Agency, ATTN: DP, 8725 John J. Kingman Road, Stop 2533, Fort Belvoir, VA 22060-6221, and Public Affairs Officers at DLA Field Activities. Official mailing addresses are published as an appendix to DLA's compilation of systems of records notices.

Notification procedure:

Individuals seeking to determine whether this system of records contains information about themselves should address written inquiries to the Privacy Act Officer, Headquarters, Defense Logistics Agency, ATTN: DP, 8725 John J. Kingman Road, Stop 2533, Fort Belvoir, VA 22060-6221, or the Privacy Act Officer of the particular DLA Field Activity involved. Official mailing addresses are published as an appendix to DLA's compilation of systems of records notices.

Individuals must provide full name and current mailing address to permit locating the record.

Record access procedure:

Individuals seeking access to information about themselves contained in this system of records should address written inquiries to the Privacy Act Officer, Defense Logistics Agency, ATTN: DP, 8725 John J. Kingman Road, Stop 2533, Fort Belvoir, VA 22060-6221, or the Privacy Act Officer of the particular DLA Field Activity involved. Official mailing addresses are published as an appendix to DLA's compilation of systems of records notice.

Individuals must provide full name and current mailing address to permit locating the record.

Contesting record procedures:

The DLA rules for accessing records, for contesting contents and appealing initial agency determinations are contained in 32 CFR part 323, or may be obtained from the Privacy Act Officer, Headquarters, Defense Logistics Agency, ATTN: DP, 8725 John J. Kingman Road, Stop 2533, Fort Belvoir, VA 22060-6221.

Record source categories:

From the subject individual or the DLA organization publishing the document.

Exemptions claimed for system:

None.

[FR Doc. 06-7156 Filed 8-24-06; 8:45 am]

BILLING CODE 5001-06-M